DEPARTMENT OF LABOR

Employment and Training Administration

[SGA/DFA-PY 08-04]

Solicitation for Grant Applications (SGA); Technology-Based Learning (TBL) Initiative

AGENCY: Employment and Training Administration (ETA), Labor.

ACTION: Notice: Amendment to SGA/DFA-PY 08-04.

SUMMARY: The Employment and Training Administration published a document in the Federal Register on June 20, 2008, announcing the availability of funds and solicitation for grant applications (SGA) under the TBL Initiative to be awarded through a competitive process. This notice is an amendment to the SGA and it amends Part II. Award Information.

FOR FURTHER INFORMATION CONTACT: James Stockton, Grant Officer, Division of Federal Assistance, at (202) 693-3335.

Supplementary Information Correction: In the Federal Register of June 20, 2008, in FR Doc. E8-13967. The second (2nd) paragraph, under the specific heading “Use of Funds/Allowable Activities amends the link for guidance on the list of eligible occupations and industries that have been identified as those for which employers use H-1B visas to employ foreign workers to: http://www.doleta.gov/sga/sga.cfm (page 35157). Reference SGA/DFA PY 08-04.

Effective Date: This notice is effective July 1, 2008.

Signed at Washington, DC, this 25th day of June 2008.
James W. Stockton,
Grant Officer.

[FR Doc. E8-14865 Filed 6-30-08; 8:45 am]

BILLING CODE 4510-FN-P